CONSUMER PRODUCT SAFETY COMMISSION

Sunshine Act Meeting

“FEDERAL REGISTER” CITATION OF PREVIOUS ANNOUNCEMENT: Vol. 66, No. 193, Thursday, October 4, 2001, page 50620.

PREVIOUSLY ANNOUNCED TIME AND DATE OF MEETING: 2 p.m., Monday, October 15, 2001.

CHANGES IN MEETING: The Commission meeting was canceled and is rescheduled for Tuesday, October 16, 2001 at 10 a.m.

For a recorded message containing the latest agenda information, call (301) 504-0709.

CONTACT PERSON FOR ADDITIONAL INFORMATION: Todd A. Stevenson, Office of the Secretary, 4330 East West Highway., Bethesda, MD 20207 (301) 504-0800.

Dated: October 12, 2001.
Todd A. Stevenson,
Acting Secretary.

[FR Doc. 01-26169 Filed 10-12-01; 2:13 pm]

BILLING CODE 6355-01-M